DEPARTMENT OF HEALTH AND HUMAN SERVICES

National Institutes of Health

National Institute of General Medical Sciences; Amended Notice of Meeting

Notice is hereby given of a change in the meeting of the MARC Review Subcommittee A, June 16, 2005, 8 a.m. to June 17, 2005, 6 p.m., Holiday Inn Select Bethesda, 8120 Wisconsin Ave, Bethesda, MD 20814 which was published in the Federal Register on May 31, 2005, 70FR10330958.

The meeting will be held on June 16, 2005. The meeting is closed to the public.

Dated: June 10, 2005
LaVerne Stringfield,
Director, Office of Federal Advisory Committee Policy.

[FR Doc. 05-11988 Filed 6-16-05; 8:45 am]

BILLING CODE 4140-01-M